CORPORATION FOR NATIONAL AND COMMUNITY SERVICE

Corporation-Supported Programs Covered by Title IX Regulations

AGENCY: Corporation for National and Community Service.

ACTION: Notice.

SUMMARY: In a document published in the Federal Register on August 30, 2000 (65 FR 52857), the Corporation for National Service (Corporation) joined many other Federal agencies in issuing final regulations providing for the enforcement of Title IX of the Education Amendments of 1972, as amended, which prohibits recipients of Federal financial assistance from discriminating on the basis of sex in educational programs or activities. This notice identifies programs supported by the Corporation that are covered by the Title IX regulations. The purpose of the list is to ensure that recipients of Corporation assistance are aware of their obligations under Title IX.

ADDRESSES: Our address is 1201 New York Avenue NW, Washington, D.C. 20525.

FOR FURTHER INFORMATION CONTACT: For further information, contact Frank Trinity at (202) 606-5000, ext. 256. This notice may be requested in an alternative format for the visually impaired.

SUPPLEMENTARY INFORMATION: All recipients of assistance from the Corporation for National and Community Service under the National and Community Service Act of 1990, as amended, and the Domestic Volunteer Service Act of 1973, as amended, are hereby on notice that their Corporation-assisted programs and activities are considered “training and education activities” for the purposes of Title IX of the Education Amendments of 1972, as amended. These programs and activities include, but are not limited to, those listed in the following table:

Program | Authority | Basis for Title IX coverage
Learn and Serve America School-Based, Community-Based, Higher Education, Service-Learning Clearinghouse | 42 U.S.C. 12521-12561 | 42 U.S.C. 12635(b).
AmeriCorps program grants, including State, National, Tribes and Territories, Education Awards, Promise Fellows, Leaders | 42 U.S.C. 12571-12595, 12653 | 42 U.S.C. 12635(b).
Training and technical assistance | 42 U.S.C. 12574 | 42 U.S.C. 12635(b).
Administrative grants to State Commissions | 42 U.S.C. 12576(a) | 42 U.S.C. 12635(b).
Disaster relief | 42 U.S.C. 12576(b) | 42 U.S.C. 12635(b).
Challenge grants | 42 U.S.C. 12576(c) | 42 U.S.C. 12635(b).
Disability placement | 42 U.S.C. 12581(d)(5)(B) | 42 U.S.C. 12635(b).
Disability outreach | 42 U.S.C. 12581(d)(5)(C) | 42 U.S.C. 12635(b).
Program Development and Training | 42 U.S.C. 12653 | 42 U.S.C. 12635(b).
National Civilian Community Corps | 42 U.S.C. 12611-12626 | 42 U.S.C. 12635(b).
Innovation and Quality activities under subtitle H, including but not limited to Martin Luther King, Jr. Day of Service grants, cooperative agreements to provide training and technical assistance, to carry out the President's Student Service Scholarships and the President Student Service Awards, and for other purposes | 42 U.S.C. 12653 | 42 U.S.C. 12635(b).
Points of Light Foundation | 42 U.S.C. 12661-12664 | Assisted activities include training, workshops, curriculum development.
AmeriCorps VISTA | 42 U.S.C. 4951-4995 | 42 U.S.C. 5057; training a core element of programs.
National Senior Service Corps | 42 U.S.C. 5000-5028a | 42 U.S.C. 5057; training a core element of programs.

Dated: October 26, 2000.
Wendy Zenker,
Chief Operating Officer, Corporation for National and Community Service.

[FR Doc. 00-28000 Filed 10-31-00; 8:45 am]

BILLING CODE 6050-28-P